DEPARTMENT OF COMMERCE

National Oceanic and Atmospheric Administration

50 CFR Part 660

[Docket No. 140418348-4406-01]

RIN 0648-BE14

Magnuson-Stevens Act Provisions; Fisheries off West Coast States; Pacific Coast Groundfish Fishery; 2013-2014 Biennial Specifications and Management Measures; Correction

AGENCY: National Marine Fisheries Service (NMFS), National Oceanic and Atmospheric Administration (NOAA), Commerce.

ACTION: Final rule; correcting amendment.

SUMMARY: This action corrects the Pacific coast groundfish harvest specifications and management measures regulations that published in the Federal Register on January 3, 2013. Specifically, this rule corrects the 2014 shorebased trawl allocations for several species of groundfish in the shorebased trawl allocation table that were inadvertently misreported. Quota share accounts will be updated to reflect this correction within two weeks from May 16, 2014.

DATES: This rule is effective May 16, 2014.

FOR FURTHER INFORMATION CONTACT: Miako Ushio, 206-526-4644; Miako.Ushio@noaa.gov.

SUPPLEMENTARY INFORMATION:

Background

NMFS established the 2013-2014 harvest specifications and management measures for groundfish taken in the U.S. exclusive economic zone off the coasts of Washington, Oregon, and California through a final rule that published on January 3, 2013. (78 FR 580). This notice corrects the 2014 shorebased trawl allocations for several species of groundfish in the shorebased trawl allocation table that were inadvertently misreported in the January 3, 2013 final rule.

During the development of the shorebased trawl allocations, due to a spreadsheet error, some shorebased fishery allocations were multiplied by the initial issuance allocation percentages for non-whiting trips. Those non-whiting trip allocation percentages were designed only to be used for calculations related to the initial issuance of quota share. The initial issuance allocation percentages for non-whiting trips were not intended to be used for determining the annual shorebased trawl allocation for those species. As a result, for certain Individual Fishing Quota (IFQ) species, the shorebased trawl sector did not receive its full 2014 allocation.

Table 1 depicts the initial issuance allocation percentages between whiting and non-whiting trips NMFS used to weigh each calculation to determine initial quota share amounts that represented a combined whiting and non-whiting shorebased IFQ program.

Table 1—The Council-Preferred Shoreside Whiting and Non-Whiting Trawl Allocations for Use in Initial Allocation of Quota Share. Excerpt from the Final Environmental Impact Statement (FEIS) for Allocation of Harvest Opportunity Between Sectors of the Pacific Coast Groundfish Fishery
Stocks and stock: Complexes | Shoreside trawl sectors: Alternative 4:: Non-Whiting | Shoreside trawl sectors: Alternative 4:: Whiting
Lingcod—coastwide | 99.7% | 0.3%
Pacific Cod | 99.9% | 0.1%
Pacific Whiting—coastwide | 0.1% | 99.9%
Sablefish N. of 36° | 98.2% | 1.8%
Sablefish S. of 36° | 100.0% | 0.0%
PACIFIC OCEAN PERCH | Remaining | 17% or 30 mt, whichever is greater, to
WIDOW | Remaining | If under rebuilding, 52% to SS +
Chilipepper S. of 40°10′ | 100.0% | 0.0%
Splitnose S. of 40°10′ | 100.0% | 0.0%
Yellowtail N. of 40°10′ | Remaining | 300 mt
Shortspine N. of 34°27′ | 99.9% | 0.1%
Shortspine S. of 34°27′ | 100.0% | 0.0%
Longspine N. of 34°27′ | 100.0% | 0.0%
Longspine S. of 34°27′ | 100.0% | 0.0%
DARKBLOTCHED | Remaining | 9% or 25 mt, whichever is greater, to
Minor Slope RF North | 98.6% | 1.4%
Dover Sole | 100.0% | 0.0%
English Sole | 99.9% | 0.1%
Petrale Sole—coastwide | 100.0% | 0.0%
Arrowtooth Flounder | 100.0% | 0.0%
Starry Flounder | 100.0% | 0.0%
Other Flatfish | 99.9% | 0.1%

An example of the error being corrected through this notice is the shorebased trawl allocation of Other Flatfish. The 2014 Other Flatfish annual catch limit is 4,884 mt. Deducting anticipated mortality from research, incidental open access fisheries, and the tribal fishery results in a fishery harvest guideline of 4,682mt. (50 CFR part 660, Subpart C, Table 2a). From the fishery harvest guideline, the trawl allocation is 90 percent of that amount, or 4,214 mt. (50 CFR part 660, Subpart C, Table 2b). From the trawl allocation, the at-sea whiting fishery receives a set-aside of 20 mt. (50 CFR part 660, Subpart C, Table 2d). The remaining approximately 4,194 mt. should have been the shorebased trawl allocation of Other Flatfish. However, the existing shorebased trawl allocation table at § 660.140 (d)(1)(ii)(D) has the value as 4,189.61 mt. The roughly 4.4 mt shortfall in the shorebased trawl allocation of Other Flatfish was caused by multiplying the 4,194 mt by the 99.9 percent initial issuance allocation percent for Other Flatfish non-whiting trips, seen in the first column in Table 1 above. As stated previously, this was not the intended use for those initial issuance values, and the resulting errors under-allocated fish to the shorebased trawl sector.

The shortfalls occurred for English sole, lingcod, minor slope rockfish north of 40°10 N. latitude, Other Flatfish, Pacific cod, shortspine thornyhead N. of 34°27 N. latitude, and yellowtail rockfish north of 40°10′ N latitude. This action corrects the allocations such that the shorebased IFQ sector receives 100 percent of the intended allocation for 2014 and revises the 2014 shorebased trawl allocation table at § 660.140 (d)(1)(ii)(D) for English sole, lingcod, minor slope rockfish north of 40°10 N. latitude, Other Flatfish, Pacific cod, shortspine thornyhead N. of 34°27 N. latitude, and yellowtail rockfish north of 40°10′ N latitude. For all species except yellowtail rockfish north of 40°10′ N latitude, the correction represents an increased allocation of less than 5 mt; for yellowtail rockfish north of 40°10′ N latitude, it results in an increase of 300 mt. This correction does not change any existing annual catch limits or allocation formulas or result in allocating fish in a manner other than was intended through the 2013-2014 harvest specifications and management measures.

Classification

The Assistant Administrator (AA) for Fisheries, NOAA, finds that pursuant to 5 U.S.C. 553(b)(B), there is good cause to waive prior notice and an opportunity for public comment on this action, as notice and comment would be impracticable and contrary to the public interest. This notice corrects 2014 shorebased trawl allocations for several species of groundfish in the shorebased trawl allocation table that were inadvertently misreported in the Biennial Specifications and Management Measures final rule, and will result in a very minor increase in quota pounds (the number of pounds of fish this particular sector is allowed to catch) for several species. This correction must be implemented in a timely manner so that fishermen are allowed increased opportunities to harvest available stocks, and meet the objective of the Pacific Groundfish Fishery Management Plan to allow fisheries to approach, but not exceed, Annual Catch Limits. It would be contrary to the public interest to delay implementation of these changes until after public notice and comment, because making this regulatory change by May 16, 2014, allows harvest as intended by the Council, consistent with the best scientific information available. For the reasons above, the AA also finds good cause under 5 U.S.C. 553(d)(3) to waive the 30-day delay in effectiveness and makes this rule effective immediately upon publication.

List of Subjects in 50 CFR Part 660

Fisheries, Fishing, and Indian fisheries.

Dated: May 12, 2014.
Samuel D. Rauch III,
Deputy Assistant Administrator for Regulatory Programs, National Marine Fisheries Service.

For the reasons set out in the preamble, 50 CFR part 660 is corrected by making the following correcting amendments:

PART 660—FISHERIES OFF WEST COAST STATES

1. The authority citation for part 660 continues to read as follows:

Authority: 16 U.S.C. 1801 et seq. and 16 U.S.C. 773 et seq.

2. In § 660.140, revise paragraph (d)(1)(ii)(D) to read as follows:

§ 660.140 Shorebased IFQ Program.

* * * * *

(d) * * *

(1) * * *

(ii) * * *

(D) For the trawl fishery, NMFS will issue QP based on the following shorebased trawl allocations:

IFQ Species | Management area | 2013 Shorebased trawl allocation (mt) | 2014 Shorebased trawl allocation (mt)
Arrowtooth flounder |  | 3,846.13 | 3,467.08
BOCACCIO | South of 40°10′ N. lat. | 74.90 | 79.00
CANARY ROCKFISH |  | 39.90 | 41.10
Chilipepper | South of 40°10′ N. lat. | 1,099.50 | 1,067.25
COWCOD | South of 40°10′ N. lat. | 1.00 | 1.00
DARKBLOTCHED ROCKFISH |  | 266.70 | 278.41
Dover sole |  | 22,234.50 | 22,234.50
English sole |  | 6,365.03 | 5,260.85
Lingcod | North of 40°10′ N. lat. | 1,222.57 | 1,155.15
Lingcod | South of 40°10′ N. lat. | 494.41 | 474.30
Longspine thornyhead | North of 34°27′ N. lat. | 1,859.85 | 1,811.40
Minor shelf rockfish complex | North of 40°10′ N. lat. | 508.00 | 508.00
Minor shelf rockfish complex | South of 40°10′ N. lat. | 81.00 | 81.00
Minor slope rockfish complex | North of 40°10′ N. lat. | 776.93 | 789.38
Minor slope rockfish complex | South of 40°10′ N. lat. | 376.11 | 378.63
Other flatfish complex |  | 4,189.61 | 4,193.80
Pacific cod |  | 1,125.29 | 1,126.41
PACIFIC OCEAN PERCH | North of 40°10′ N. lat. | 109.43 | 112.28
Pacific Whiting |  | 85,679 | 108,935
PETRALE SOLE |  | 2,318.00 | 2,378.00
Sablefish | North of 36° N. lat. | 1,828.00 | 1,988.00
Sablefish | South of 36° N. lat. | 602.28 | 653.10
Shortspine thornyhead | North of 34°27′ N. lat. | 1,385.35 | 1,372.49
Shortspine thornyhead | South of 34°27′ N. lat. | 50.00 | 50.00
Splitnose rockfish | South of 40°10′ N. lat. | 1,518.10 | 1,575.10
Starry flounder |  | 751.50 | 755.50
Widow rockfish |  | 993.83 | 993.83
YELLOWEYE ROCKFISH |  | 1.00 | 1.00
Yellowtail rockfish | North of 40°10′ N. lat. | 2,635.33 | 2,938.85

* * * * *

[FR Doc. 2014-11309 Filed 5-15-14; 8:45 am]

BILLING CODE 3510-22-P